DEPARTMENT OF HEALTH AND HUMAN SERVICES

Food and Drug Administration

[Docket No. FDA-2023-N-1338]

Vaccines and Related Biological Products Advisory Committee; Notice of Meeting; Establishment of a Public Docket; Request for Comments; Correction

AGENCY: Food and Drug Administration, HHS.

ACTION: Notice; establishment of a public docket; request for comments; correction.

SUMMARY: The Food and Drug Administration is correcting a notice entitled “Vaccines and Related Biological Products Advisory Committee; Notice of Meeting; Establishment of a Public Docket; Request for Comments” that appeared in the Federal Register of April 11, 2023. The document announced a forthcoming public advisory committee meeting of the Vaccines and Related Biological Products Advisory Committee. The document was published with the incorrect docket number. This document corrects that error.

FOR FURTHER INFORMATION CONTACT: Lisa Granger, Office of Policy, Planning, Legislation and International Affairs, Food and Drug Administration, 301-796-9115, Lisa.Granger@fda.hhs.gov.

SUPPLEMENTARY INFORMATION: In the Federal Register of Tuesday, April 11, 2023 (88 FR 21688) in FR Doc. 2023-248, the following corrections are made:

1. On page 21688, in the third column, in the header of the document, “Docket No. FDA-2023-N-0378” is corrected to read “Docket No. FDA-2023-N-1338” and in the ADDRESSES section, in the third line of the last paragraph, “FDA-2023-N-0378” is corrected to read “FDA-2023-N-1338.”

2. On page 21689, in the first column, in the second line of the “Instructions:” section, Docket No. FDA-2023-N-0378” is corrected to read “Docket No. FDA-2023-N-1338”.

Dated: April 14, 2023.
Lauren K. Roth,
Associate Commissioner for Policy.

[FR Doc. 2023-08279 Filed 4-18-23; 8:45 am]

BILLING CODE 4164-01-P